DEPARTMENT OF ENERGY

National Coal Council

AGENCY: Office of Fossil Energy, Department of Energy.

ACTION: Notice of open meetings.

SUMMARY: This notice announces a meeting of the National Coal Council (NCC). The Federal Advisory Committee Act (Pub. L. 92-463, 86 Stat. 770) requires that public notice of these meetings be announced in the Federal Register.

DATES: Wednesday, October 5, 2016; 8:15 a.m. to 12:15 p.m.

ADDRESSES: Hilton Milwaukee City Center, 509 West Wisconsin Avenue, Milwaukee, WI.

FOR FURTHER INFORMATION CONTACT: Daniel Matuszak, U.S. Department of Energy, 4G-036/Forrestal Building, 1000 Independence Avenue SW., Washington, DC 20585-0001; Telephone: 202-287-6915.

SUPPLEMENTARY INFORMATION:

Purpose of the Council: The National Coal Council provides advice and recommendations to the Secretary of Energy on general policy matters relating to coal and the coal industry.

Purpose of Meeting: The 2016 Fall Meeting of the National Coal Council.

Tentative Agenda:

1. Call to order and opening remarks by Mike Durham, Chair, National Coal Council

2. Remarks by Robert G. Ivy, Senior Advisor, U.S. Department of Energy

3. Presentation by Peter Kirk, Head Digital Coal Solutions, GE Power on Digital Power Plant Management: Enhancing Coal Plant Environmental Compliance

4. Presentation by William Sawyer, Manager Hibbard Renewable Energy Center, Minnesota Power on Carbon-eliminating Allam Cycle for Coal Power Plants

5. Presentation by Danny Gray, Executive Vice President Government & Environmental Affairs, Charah, Inc. on Beneficial Uses of Coal and Coal Byproducts: Coal Ash & Rare Earth Elements

6. Council Business:

a. Finance report by Finance Committee Chair Greg Workman

b. Coal Policy Committee report by Coal Policy Committee Chair Deck Slone

c. Communications Committee report by Communications Committee Chair Lisa Bradley

d. NCC Business Report by NCC CEO Janet Gellici

7. Other Business

8. Adjourn

Attendees are requested to register in advance for the meeting at: http://www.nationalcoalcouncil.org/page-NCC-Events.html

Public Participation: The meeting is open to the public. If you would like to file a written statement with the Council, you may do so either before or after the meeting. If you would like to make oral statements regarding any item on the agenda, you should contact Daniel Matuszak, 202-287-6915 or daniel.matuszak@hq.doe.gov (email). You must make your request for an oral statement at least 5 business days before the meeting. Reasonable provision will be made to include oral statements on the scheduled agenda. The Chairperson of the Council will lead the meeting in a manner that facilitates the orderly conduct of business. Oral statements are limited to 10-minutes per organization and per person.

Minutes: A link to the transcript of the meeting will be posted on the NCC Web site at: http://www.nationalcoalcouncil.org/.

Issued at Washington, DC on September 7, 2016.
LaTanya R. Butler,
Deputy Committee Management Officer.

[FR Doc. 2016-21870 Filed 9-9-16; 8:45 am]

BILLING CODE 6450-01-P